DEPARTMENT OF HEALTH AND HUMAN SERVICES

National Institutes of Health

National Cancer Institute; Notice of Meetings

Pursuant to section 10(a) of the Federal Advisory Committee Act, as amended, notice is hereby given of meetings of the President's Cancer Panel.

The meetings will be held as virtual meetings and are open to the public. Individuals who plan to view the virtual meetings and need special assistance or other reasonable accommodations to view the meetings should notify the Contact Person listed below in advance of the meetings. The meetings can be accessed by clicking on the following link: https://nci.rev.vbrick.com/#/webcasts/presidentscancerpanel.

Name of Committee: President's Cancer Panel.

Date: October 26, 2020.

Time: 1:00 p.m. to 5:00 p.m.

Agenda: Improving Resilience and Equity in Cancer Screening: Lessons from COVID-19 and Beyond (Day 1—Lung Cancer).

Place: National Cancer Institute, 31 Center Drive, Building 31, Room 11A48, Rockville, MD 20850 (Virtual Meeting).

Access to Meeting: https://nci.rev.vbrick.com/#/webcasts/presidentscancerpanel.

Contact Person: Maureen R. Johnson, Ph.D., Executive Secretary, President's Cancer Panel, Special Assistant to the Director, National Cancer Institute, NIH, 31 Center Drive, Room 11A48 MSC 2590, Bethesda, MD 20892, 240-781-3327, johnsonr@mail.nih.gov.

Name of Committee: President's Cancer Panel.

Date: October 28, 2020.

Time: 1:00 p.m. to 5:00 p.m.

Agenda: Improving Resilience and Equity in Cancer Screening: Lessons from COVID-19 and Beyond (Day 2—Lung Cancer).

Place: National Cancer Institute, 31 Center Drive, Building 31, Room 11A48, Bethesda, MD 20892 (Virtual Meeting).

Access to Meeting: https://nci.rev.vbrick.com/#/webcasts/presidentscancerpanel.

Contact Person: Maureen R. Johnson, Ph.D., Executive Secretary, President's Cancer Panel, Special Assistant to the Director, National Cancer Institute, NIH, 31 Center Drive, Room 11A48 MSC 2590, Bethesda, MD 20892, 240-781-3327, johnsonr@mail.nih.gov.

Any interested person may file written comments with the committee by forwarding the statement to the Contact Person listed on this notice. The statement should include the name, address, telephone number and when applicable, the business or professional affiliation of the interested person.

Information is also available on the Institute's/Center's home page: http://deainfo.nci.nih.gov/advisory/pcp/index.htm, where agendas and any additional information for the meetings will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: September 9, 2020.
Melanie J. Pantoja,
Program Analyst, Office of Federal Advisory Committee Policy.

[FR Doc. 2020-20297 Filed 9-14-20; 8:45 am]

BILLING CODE 4140-01-P